DEPARTMENT OF COMMERCE

International Trade Administration

[A-570-846]

Brake Rotors from the People's Republic of China: Notice of Partial Rescission of the Ninth New Shipper Antidumping Duty Review

AGENCY: Import Administration, International Trade Administration, Department of Commerce.

ACTION: Notice of Partial Rescission of Antidumping Duty Administrative Review.

SUMMARY: On June 5, 2003, in response to a request by three exporters of the subject merchandise from the People's Republic of China (“PRC”),¹ the Department of Commerce (“the Department”) initiated the ninth new shipper review of the antidumping duty order on brake rotors from the PRC. The period of review is April 1, 2002 through March 31, 2003². This review has now been partially rescinded as a result of the withdrawal of the request for review by Anda.

¹ The three exporters are (1) Anda Industries Co., Ltd.(“Anda”); (2) Laizhou City Luqi Machinery Co., Ltd.(“Laizhou Luqi”); and (3) Qingdao Rotec Auto Parts Co., Ltd. (“Qingdao Rotec”)

² On May 16, 2003, Anda, Laizhou Luqi and Qingdao Rotec waived the new shipper time limits specified in 19 CFR 351.214(j)(3), and we subsequently aligned this new shipper review with the sixth antidumping duty administrative review of brake rotor from the PRC.

EFFECTIVE DATE: July 14, 2003.

FOR FURTHER INFORMATION CONTACT: Brian Smith, Terre Keaton or Margarita Panayi, Import Administration, International Trade Administration, U.S. Department of Commerce, 14th Street and Constitution Avenue, N.W., Washington, D.C. 20230; telephone (202) 482-1766, (202) 482-1280 or 482-0049, respectively.

SUPPLEMENTARY INFORMATION:

Background

On June 5, 2003, the Department of Commerce initiated a new shipper review of Anda, Laizhou Luqi and Qingdao Rotec (see Brake Rotors from the People's Republic of China: Initiation of the Ninth New Shipper Antidumping Duty Review, 68 FR 33675 (June 5, 2003)). On June 17, 2003, Anda withdrew its request for review.

Partial Rescission of Review

Pursuant to 19 CFR 351.214 (f), the Secretary will rescind a new shipper review in whole or in part if a party that requested the review withdraws its request within sixty days of publication of the Federal Register notice that initiated the review. In accordance with 19 CFR 351.214(f), Anda withdrew its request for review within the 60-day period.

Accordingly, we are rescinding in part this review of the antidumping duty order on brake rotors from the PRC with respect to Anda. This review will continue with respect to Laizhou Luqi and Qingdao Rotec. Furthermore, bonding will no longer permitted to fulfill security requirements for shipments of brake rotors from the PRC produced and exported by Anda that are entered, or withdrawn from warehouse, for consumption in the United States on or after the publication of this rescission notice in the Federal Register.

This notice is published in accordance with section 751 of the Act and 19 CFR 351.214(d).

Dated: July 8, 2003.
Jeffrey May,
Deputy Assistant Secretary for Import Administration.

[FR Doc. 03-17745 Filed 7-11-03; 8:45 am]

BILLING CODE 3510-DS-S